DEPARTMENT OF AGRICULTURE

Agricultural Marketing Service

7 CFR Part 46

[Doc. No. AMS-FV-15-0045]

Regulations Under the Perishable Agricultural Commodities Act (PACA): Growers' Trust Protection Eligibility and Clarification of “Written Notification”

AGENCY: Agricultural Marketing Service, USDA.

ACTION: Extension of comment period.

SUMMARY: Notice is hereby given that the comment period for the proposed rule published in the Federal Register on December 14, 2016 (81 FR 90255), is extended until March 15, 2017. The rule invited comments on proposed amendments to the regulations under the Perishable Agricultural Commodities Act (PACA) that would clarify how growers and other principals may preserve their PACA trust rights. The proposed amendments would also provide guidance on the type of notification required to initiate U.S. Department of Agriculture (USDA) investigations of alleged PACA violations.

DATES: Written or electronic comments received by March 15, 2017, will be considered prior to issuance of a final rule.

ADDRESSES: Interested persons are invited to submit comments via the Internet at: http://www.regulations.gov. Comments may also be submitted to “PACA Regulatory Enhancements,” AMS, Specialty Crops Program, PACA Division, 1400 Independence Avenue SW., Room 1510-S, Stop 0242, Washington, DC 20250-0242; or fax: (202) 690-4413. All comments should reference the document number and the dates and page numbers of the December 14, 2016, issue and this issue of the Federal Register. All comments received will be posted online without change, including any personal information provided, and will be made available for public inspection at the above physical address during regular business hours.

FOR FURTHER INFORMATION CONTACT: Josephine E. Jenkins, Chief, Investigative Enforcement Branch, (202) 720-6873; or PACAinvestigations@ams.usda.gov.

SUPPLEMENTARY INFORMATION: The PACA trust provisions protect participants trading in fruits and vegetables by improving their chances of recovering money owed them when buyers default. A proposed rule regarding amendments to the PACA regulations was published in the Federal Register on December 14, 2016 (81 FR 90255). The Agricultural Marketing Service (AMS) proposed the amendments to clarify how growers and other produce sellers in the marketing chain can preserve their PACA trust rights and how they can notify USDA of the need for investigations into alleged violations of PACA regulations.

The 60-day comment period provided in the proposed rule would have closed February 13, 2017. The comment period for the proposed rule is extended until March 15, 2017. AMS is extending the public comment period for an additional 30 days to ensure that interested persons have sufficient time to review and comment on the proposed rule.

Authority: 7 U.S.C. 499a-499t.

Dated: February 14, 2017.
Bruce Summers,
Acting Administrator, Agricultural Marketing Service.

[FR Doc. 2017-03252 Filed 2-16-17; 8:45 am]

BILLING CODE 3410-02-P